DEPARTMENT OF HOMELAND SECURITY

Coast Guard

33 CFR Part 117

[Docket No. USCG-2025-0924]

RIN 1625-AA09

Drawbridge Operation Regulation; Bass River, Beverly, MA

AGENCY: Coast Guard, DHS.

ACTION: Final rule.

SUMMARY: The Coast Guard is modifying the operating schedule that governs the Hall Whitaker Bridge across the Bass River at mile 0.6 in Beverly, Massachusetts. The Hall Whitaker Bridge will remain the closed position while a temporary bridge is constructed and the Hall Whitaker Bridge is demolished and rebuilt. The temporary bridge will also be a fixed bridge and will not be able to open.

DATES: This rule is effective November 24, 2025.

ADDRESSES: To view documents mentioned in this preamble as being available in the docket, go to https://www.regulations.gov. Type the docket number USCG-2025-0924 in the “SEARCH” box and click “SEARCH”. In the Document Type column, select “Supporting & Related Material”.

FOR FURTHER INFORMATION CONTACT: If you have questions on this rule, call or email Mr. Gregory P. Hitchen, Northeast District Bridge Program Manager, U.S. Coast Guard; telephone 571-607-8154, or email Gregory.P.Hitchen@uscg.mil.

SUPPLEMENTARY INFORMATION:

I. Table of Abbreviations

CFR Code of Federal Regulations

DHS Department of Homeland Security

FR Federal Register

NPRM Notice of proposed rulemaking

Pub. L. Public Law

§ Section

U.S.C. United States Code

II. Background Information and Regulatory History

The Coast Guard is issuing this final rule under the authority in 5 U.S.C. 553(b). This provision authorizes an agency to issue a rule without prior notice and opportunity to comment when the agency for good cause finds that those procedures are “impracticable, unnecessary, or contrary to the public interest.” Under 5 U.S.C. 553(b), the Coast Guard finds that good cause exists for not publishing a notice of proposed rulemaking (NPRM) with respect to this rule because it is impracticable and unnecessary. This bridge is non-operational and will remain non-operational until rehabilitation work can be completed.

On September 27, 2025, the Coast Guard issued a General Deviation which allowed the bridge owner, the Massachusetts Department of Transportation, to deviate from the current operating schedule in 33 CFR 117.588 to construct a temporary bridge immediately adjacent to the existing bridge, which was assessed as structurally deficient. Due to the time required to construct the temporary fixed bridge and demolish the existing bridge, the project will run past the end date of April 27, 2026, of the General Deviation. The existing bridge cannot be brought back to operating condition as it has been assessed as structurally unsound and is scheduled for demolition. In addition, the temporary bridge placement makes it impossible to fully open the swing drawbridge. Because the drawbridge must remain closed indefinity through its demolition, it is impossible to comply with the existing drawbridge operating schedule and soliciting comments on the operating schedule change is unnecessary. It is also impracticable to solicit comments prior to the drawbridge operating schedule change because it is already permanently closed due to the drawbridge being structurally unsound.

Under 5 U.S.C. 553(d)(3), the Coast Guard finds that good cause exists for making it effective in less than 30 days after publication in the Federal Register. For reasons presented above, delaying the effective date of this rule would be impracticable and contrary to the public interest due to the fact that the bridge is currently inoperable and cannot go back into operation until the rehabilitation work can be completed.

III. Legal Authority and Need for Rule

The Coast Guard is issuing this rule under authority in 33 U.S.C. 499.

The Hall Whitaker Bridge across the Bass River at mile 0.6 in Beverly, Massachusetts, is a movable swing bridge with a closed vertical clearance of 4.62 feet and an open vertical clearance of 43.6 feet. The bridge's operating regulations are contained in 33 CFR 117.558.

The Hall Whitaker Bridge was closed to vehicular traffic in June 2022 in response to a substandard load rating. The bridge's structural deficiencies are beyond repair, and the bridge must be fully replaced. In preparation for the bridge replacement, a temporary bridge will be constructed immediately adjacent to the existing bridge, and the existing bridge will be demolished. During the construction of the temporary bridge, the existing bridge will be unable to open for marine traffic.

There is only one waterfront facility, a yacht club, upstream of the Hall Whitaker Bridge. Bridge openings average 20 per year and are highly seasonal, concentrated in the Spring and Fall months when larger vessels move to and from the yacht club for winter storage. As part of the planning in advance of construction of the temporary bridge, Massachusetts Department of Transportation has made alternate arrangements for impacted vessels to reach their winter storage facility upstream of the Hall Whitaker Bridge.

IV. Discussion of the Final Rule

This rule changes the operating schedule of the Hall Whitaker Bridge in 117.588(c) to allow the movable span to remain in the closed position. Previously, this paragraph required the drawbridge to open on signal if at least 24 hours' notice was given. Vessels able to pass underneath the bridge in the closed position will be able to transit. Upon completion of design and construction of the new bridge, the Coast Guard may propose a new drawbridge operating schedule, as needed.

V. Regulatory Analyses

We developed this rule after considering numerous statutes and Executive Orders related to rulemaking. Below we summarize our analyses based on a number of these statutes and Executive Orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule calls for no new collection of information under the Paperwork Reduction Act of 1995 (44 U.S.C. 3501-3520).

C. Federalism and Indian Tribal Government

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

E. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Appendix A, Table 1 of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.3

2. Revise and republish § 117.588 to read as follows:

§ 117.588 Bass River.

The Hall Whitaker Bridge, mile 0.6 at Beverly, shall operate as follows:

(a) Public vessels of the United States with proper clearance must be passed as soon as possible.

(b) The owners of this bridge shall provide and keep in good legible condition clearance gauges for each draw with figures not less than 12 inches high designed, installed and maintained according to the provisions of § 118.160 of this chapter.

(c) The drawspan for the Hall Whitaker Drawbridge will remain in the closed to navigation position.

M.E. Platt,
Rear Admiral, U.S. Coast Guard, Commander, Northeast Coast Guard District.

[FR Doc. 2025-20726 Filed 11-21-25; 8:45 am]

BILLING CODE 9110-04-P